DEPARTMENT OF THE TREASURY

Office of Foreign Assets Control

Unblocking of Specially Designated Nationals and Blocked Persons Pursuant to the Cuban Assets Control Regulations

AGENCY: Office of Foreign Assets Control, Treasury.

ACTION: Notice.

SUMMARY: The Treasury Department's Office of Foreign Assets Control (“OFAC”) is publishing the name of a vessel whose property and interests in property have been unblocked pursuant to the Cuban Assets Control Regulations (31 CFR Part 515).

DATES: The unblocking and removal from the list of Specially Designated Nationals and Blocked Persons (“SDN List”) of the individual and entity identified in this notice whose property and interests in property were blocked pursuant to the Cuban Assets Control Regulations (31 CFR part 515), is effective on September 21, 2011.

FOR FURTHER INFORMATION CONTACT: Assistant Director, Compliance Outreach & Implementation, Office of Foreign Assets Control, Department of the Treasury, Washington, DC 20220, tel.: 202/622-2420.

SUPPLEMENTARY INFORMATION:

Electronic and Facsimile Availability

The SDN List and additional information concerning OFAC are available at OFAC's Web site (http://www.treas.gov/ofac) or via facsimile through a 24-hour fax-on demand service at (202) 622-0077.

Background

On September 21, 2011, OFAC unblocked and removed from the SDN List the vessel listed below, whose property and interests in property were blocked pursuant to the Cuban Assets Control Regulations (31 CFR part 515):

REDESTOS (H2SA) General Cargo 15,180DWT 8,953GRT Cyprus flag (REDESTOS SHIPPING CO. LTD. (SDN)) (vessel) [CUBA].

Dated: September 21, 2011.
Adam J. Szubin,
Director, Office of Foreign Assets Control.

[FR Doc. 2011-24924 Filed 9-27-11; 8:45 am]

BILLING CODE 4810-AL-P